SMALL BUSINESS ADMINISTRATION

Revocation of License of Small Business Investment Company

Pursuant to the authority granted to the United States Small Business Administration by the Final Order of the United States District Court for the District of Massachusetts, dated February 6, 2008, the United States Small Business Administration hereby revokes the license of Axxon Capital, L.P., a Delaware Limited Partnership, to function as a small business investment company under the Small Business Investment Company License No. 01/71-0382 issued to Axxon Capital, L.P., on November 3, 2000 and said license is hereby declared null and void as of February 6, 2008.

Dated: April 1, 2008.
Harry E. Haskins,
Associate Administrator for Investment.

[FR Doc. E8-8529 Filed 4-18-08; 8:45 am]

BILLING CODE 8025-01-P